ENVIRONMENTAL PROTECTION AGENCY

[FRL-9944-79-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 1856.10; NESHAP for Primary Lead Processing (Renewal); 40 CFR part 63, subparts A and TTT; was approved without change on 11/18/2015; OMB Number 2060-0414; expires on 11/30/2018.

EPA ICR Number 2294.04; NESHAP for Plating and Polishing Area Sources (Renewal); 40 CFR part 63, subparts A and WWWWWW; was approved without change on 11/18/2015; OMB Number 2060-0623; expires on 11/30/2018.

EPA ICR Number 1069.11; NSPS for Primary and Secondary Emissions from Basic Oxygen Furnaces (Renewal); 40 CFR part 60, subparts A, N and Na; was approved without change on 11/18/2015; OMB Number 2060-0029; expires on 11/30/2018.

EPA ICR Number 1167.11; NSPS for Lime Manufacturing (Renewal); 40 CFR part 63, subparts A and HH; was approved without change on 11/18/2015; OMB Number 2060-0063; expires on 11/30/2018.

EPA ICR Number 1716.09; NESHAP for Wood Furniture Manufacturing Operations (Renewal); 40 CFR part 63, subparts A and JJ; was approved without change on 11/18/2015; OMB Number 2060-0324; expires on 11/30/2018.

EPA ICR Number 1081.11; NESHAP for Inorganic Arsenic Emissions from Glass Manufacturing Plants (Renewal); 40 CFR part 61, subparts N and A; was approved without change on 11/18/2015; OMB Number 2060-0043; expires on 11/30/2018.

EPA ICR Number 1428.10; Trade Secret Claims for Community Right-to-Know and Emergency Planning (Renewal); 40 CFR part 350; was approved with change on 11/23/2015; OMB Number 2050-0078; expires on 11/30/2018.

EPA ICR Number 1446.11; PCBs: Consolidated Reporting and Recordkeeping Requirements (Renewal); 40 CFR part 761; was approved without change on 11/23/2015; OMB Number 2070-0112; expires on 11/30/2018.

EPA ICR Number 2163.05; NSPS for other Solid Waste Incineration (OSWI) Units (Renewal); 40 CFR part 60, subparts EEEE and A; was approved without change on 11/30/2015; OMB Number 2060-0563; expires on 11/30/2018.

Comment Filed

EPA ICR Number 2486.01; Reporting and Recordkeeping Requirements for the Proposed Rule on Management Standards for Hazardous Waste Pharmaceuticals (Proposed Rule); 40 CFR part 266; OMB filed comment on 11/02/2015.

EPA ICR Number 2513.01; Reporting and Recordkeeping Requirements for the Proposed Hazardous Waste Generator Improvements Rule (Proposed Rule); 40 CFR parts 262.14 (a)(4) (viii) (B)(1)-(4), 262.11 (e), 262.15 (a)(5) (ii) and (iii), 262.16 (b)(6) (i)(B) and (C), 262.16 (b)(6) (ii)(B), 262.16 (b)(8) (vi) (3) (B), 262.17 (a) (5) (i) (B) and (C), 262.17 (a) (5) (ii) (B), 262.17 (a) (8) (i) (A) and (B), 262.17 (c) (4) (iv) (B)-(C), 262.17 (g), 262.18, 262.32 (c), 262.232, 262.233 (a), 262.234 (a), 262.256 (b), 262.262 (b)(2), 263.12 (b)(3)-(4), 268.50 (a)(2) (i) (C)-(D); OMB filed comment on 11/02/2015.

Courtney Kerwin,
Acting Director, Collections Strategies Division.

[FR Doc. 2016-09568 Filed 4-22-16; 8:45 am]

BILLING CODE 6560-50-P